NUCLEAR REGULATORY COMMISSION

Request To Amend a License To Export Radioactive Waste

Pursuant to 10 CFR 110.70 (b) “Public Notice of Receipt of an Application,” please take notice that the Nuclear Regulatory Commission (NRC) has received the following request for an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.rnc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications

The information concerning this export license amendment application follows.

NRC Export License Amendment Application
[Description of material]
Name of applicant; date of application; date received; application No.; docket No. | Material type | Total quantity | End use | Recipient country
Diversified Scientific Services, Inc., Janurary 10, 2013, January 16, 2013, XW008/04, 11005323 | Class A radioactive mixed waste consisting of material contaminated with various radionuclides in varying combinations which was imported from Canada under NRC license IW012 (and subsequent amendments), and may need to be returned to the Canadian generator for ultimate disposition | Up to a maximum total of 420 kilograms (estimated quantity of Class A radioactive mixed waste) in a total of 378,000 kilograms of such waste that Diversified Scientific Services, Inc. is authorized by NRC license IW012 (and subsequent amendments) to import from Canada for processing | Return of non-conforming waste and/or waste resulting from processing materials for appropriate disposition. Amend to: 1) add four ultimate consignees in Canada; and 2) revise “Description of Materials or Facilities” to include waste material that could not be recycled for beneficial reuse, or does not conform to specification, and/or has been processed for volume reduction and is waste directly attributable to processing the material imported under IW012 (and subsequent amendments) | Canada.

Dated this 1st day of February 2013 at Rockville, Maryland.
For the Nuclear Regulatory Commission.
Stephen Dembek,
Acting Director, Office of International Programs.

[FR Doc. 2013-03049 Filed 2-8-13; 8:45 am]

BILLING CODE 7590-01-P